DEPARTMENT OF HOMELAND SECURITY

National Communications System

National Security Telecommunications Advisory Committee

AGENCY: National Communications System (NCS).

ACTION: Notice of closed meeting.

SUMMARY: The President's National Security Telecommunications Advisory Committee (NSTAC) will meet via conference call on Wednesday, January 19, 2005, from 4 p.m. until 5 p.m. The conference call will be closed to the public. The NSTAC advises the President of the United States on issues and problems related to implementing national security and emergency preparedness (NS/EP) communications policy.

Summary of Agenda

At this meeting, the NSTAC will receive briefings concerning the Department's national planning activities for critical infrastructure protection; the interim findings of the NSTAC's Next Generation Network Task Force (NGNTF), and private sector vulnerability mitigation activities that are expected to include discussion of sensitive, commercially confidential and proprietary vulnerability and infrastructure protection information.

Basis for Closure: In accordance with Section 10(d) of the Federal Advisory Committee Act, Pub. L. 92-463, as amended (5 U.S.C. App. 2), the Department has determined that the aforementioned briefings and the associated discussion will concern matters sensitive to homeland security within the meaning of 5 U.S.C. 552b(c)(4) and (c)(9)(B) and that, accordingly, this meeting will be closed to the public.

FOR FURTHER INFORMATION CONTACT: Call Ms. Kiesha Gebreyes, Chief, Industry Operations Branch at (703) 607-6134, or write the Manager, National Communications System, P.O. Box 4502, Arlington, Virginia 22204-4502.

Peter M. Fonash,
Acting Deputy Manager, National Communications System.

[FR Doc. 05-54 Filed 1-3-05; 8:45 am]

BILLING CODE 4410-10-P